FEDERAL ELECTION COMMISSION

[Notice 2011-01]

Price Index Adjustments for Contribution and Expenditure Limits and Lobbyist Bundling Disclosure Threshold

AGENCY: Federal Election Commission.

ACTION: Notice of adjustments to contribution and expenditure limits and lobbyist bundling disclosure threshold.

SUMMARY: As mandated by provisions of the Federal Election Campaign Act of 1971, as amended (“FECA” or “the Act”), the Federal Election Commission (“FEC” or “the Commission”) is adjusting certain contribution and expenditure limits and the lobbyist bundling disclosure threshold set forth in the Act, to index the amounts for inflation. Additional details appear in the supplemental information that follows.

DATES: Effective Date: The effective date for the limit at 2 U.S.C. 441a(a)(1)(A) is November 3, 2010. The effective date for the limits at 2 U.S.C. 434(i)(3)(A), 441a(a)(1)(B), 441a(a)(3), 441a(d), and 441a(h) is January 1, 2011.

FOR FURTHER INFORMATION CONTACT: Mr. Greg J. Scott, Information Division, 999 E Street, NW., Washington, DC 20463; (202) 694-1100 or (800) 424-9530.

SUPPLEMENTARY INFORMATION: Under the Federal Election Campaign Act of 1971, 2 U.S.C. 431 et seq., as amended by the Bipartisan Campaign Reform Act of 2002 ¹ and the Honest Leadership and Open Government Act of 2007,² coordinated party expenditure limits (2 U.S.C. 441a(d)(2) and (3)(A) and (B)), certain contribution limits (2 U.S.C. 441a(a)(1)(A) and (B), (a)(3) and (h)), and the disclosure threshold for contributions bundled by lobbyists (2 U.S.C. 434(i)(3)(A)) are adjusted periodically to reflect changes in the consumer price index. See 2 U.S.C. 434(i)(3) and 441a(c)(1); 11 CFR 109.32 and 110.17(a) and (f). The Commission is publishing this notice to announce the adjusted limits and disclosure threshold.

¹ Public Law 107-155, 116 Stat. 81 (Mar. 27, 2002).

² Public Law 110-81, 121 Stat. 735 (Sept. 14, 2007).

Coordinated Party Expenditure Limits for 2011

Under 2 U.S.C. 441a(c), the Commission must adjust the expenditure limits established by 2 U.S.C. 441a(d) (the limitations on expenditures by national party committees, state party committees, or their subordinate committees in connection with the general election campaign of candidates for Federal office) annually to account for inflation. This expenditure limit is increased by the percent difference between the price index, as certified to the Commission by the Secretary of Labor, for the 12 months preceding the beginning of the calendar year and the price index for the base period (calendar year 1974).

1. Coordinated Expenditure Limit for House of Representatives in States With More Than One Congressional District.

Both the national and state party committees have a coordinated expenditure limit for each general election held to fill a seat in the House of Representatives in states with more than one congressional district. This limit also applies to those states that elect individuals to the office of Delegate or Resident Commissioner.³ The formula used to calculate the expenditure limit in such states multiplies the base figure of $10,000 by the difference in the price index (4.42246), rounding to the nearest $100. See 2 U.S.C. 441a(c)(1)(B) and 441a(d)(3)(B); 11 CFR 109.32(b) and 110.17. Based upon this formula, the coordinated expenditure limit for 2011 general elections for House candidates in these states is $44,200.

³ Currently, these states are the District of Columbia, the Commonwealth of Puerto Rico, and the territories of American Samoa, Guam, the United States Virgin Islands and the Northern Mariana Islands. See http://www.house.gov/house/MemberWWW_by_State.shtml and http://about.dc.gov/statehood.asp.

2. Coordinated Expenditure Limit for Senate and for House of Representatives in States With Only One Congressional District.

Both the national and state party committees have a coordinated expenditure limit for a general election held to fill a seat in the Senate or in the House of Representatives in states with only one congressional district. The formula used to calculate this expenditure limit considers not only the price index but also the voting age population (“VAP”) of the state. The VAP of each state is published annually in the Federal Register by the Department of Commerce. 11 CFR 110.18. The general election expenditure limit is the greater of: The base figure ($20,000) multiplied by the difference in the price index, 4.42246 (which totals $88,400); or $0.02 multiplied by the VAP of the state, multiplied by 4.42246. Amounts are rounded to the nearest $100. See 2 U.S.C. 441a(c)(1)(B) and 441a(d)(3)(A); 11 CFR 109.32(b) and 110.17. The chart below provides the state-by-state breakdown of the 2011 general election coordinated expenditure limit for Senate elections. The coordinated expenditure limit for 2011 House elections in states with only one congressional district ⁴ is $88,400.

⁴ Currently, these states are: Alaska, Delaware, Montana, North Dakota, South Dakota, Vermont and Wyoming. See http://www.house.gov/house/MemberWWW_by_State.shtml.

Senate General Election Coordinated Expenditure Limits—2011 Elections
State | Voting age population (VAP) | VAP × .02 × the price index (4.42246) | Senate expenditure limit (the greater of the amount in column 3 or $88,400)
Alabama | 3,599,303 | $318,400 | $318,400
Alaska | 527,205 | 46,600 | 88,400
Arizona | 4,940,296 | 437,000 | 437,000
Arkansas | 2,195,465 | 194,200 | 194,200
California | 27,795,779 | 2,458,500 | 2,458,500
Colorado | 3,865,036 | 341,900 | 341,900
Connecticut | 2,727,907 | 241,300 | 241,300
Delaware | 685,978 | 60,700 | 88,400
Florida | 14,616,271 | 1,292,800 | 1,292,800
Georgia | 7,324,792 | 647,900 | 647,900
Hawaii | 1,006,338 | 89,000 | 89,000
Idaho | 1,143,651 | 101,200 | 101,200
Illinois | 9,777,437 | 864,800 | 864,800
Indiana | 4,861,307 | 430,000 | 430,000
Iowa | 2,313,538 | 204,600 | 204,600
Kansas | 2,133,356 | 188,700 | 188,700
Kentucky | 3,323,606 | 294,000 | 294,000
Louisiana | 3,397,965 | 300,600 | 300,600
Maine | 1,048,523 | 92,700 | 92,700
Maryland | 4,385,947 | 387,900 | 387,900
Massachusetts | 5,203,385 | 460,200 | 460,200
Michigan | 7,623,767 | 674,300 | 674,300
Minnesota | 4,038,685 | 357,200 | 357,200
Mississippi | 2,194,892 | 194,100 | 194,100
Missouri | 4,589,980 | 406,000 | 406,000
Montana | 764,058 | 67,600 | 88,400
Nebraska | 1,359,656 | 120,300 | 120,300
Nevada | 1,977,693 | 174,900 | 174,900
New Hampshire | 1,043,155 | 92,300 | 92,300
New Jersey | 6,691,782 | 591,900 | 591,900
New Mexico | 1,514,872 | 134,000 | 134,000
New York | 15,167,513 | 1,341,600 | 1,341,600
North Carolina | 7,188,327 | 635,800 | 635,800
North Dakota | 511,050 | 45,200 | 88,400
Ohio | 8,840,340 | 781,900 | 781,900
Oklahoma | 2,796,489 | 247,300 | 247,300
Oregon | 2,986,164 | 264,100 | 264,100
Pennsylvania | 9,880,374 | 873,900 | 873,900
Rhode Island | 833,168 | 73,700 | 88,400
South Carolina | 3,515,754 | 311,000 | 311,000
South Dakota | 620,912 | 54,900 | 88,400
Tennessee | 4,847,129 | 428,700 | 428,700
Texas | 18,210,592 | 1,610,700 | 1,610,700
Utah | 1,951,049 | 172,600 | 172,600
Vermont | 500,054 | 44,200 | 88,400
Virginia | 6,103,947 | 539,900 | 539,900
Washington | 5,170,543 | 457,300 | 457,300
West Virginia | 1,439,342 | 127,300 | 127,300
Wisconsin | 4,372,515 | 386,700 | 386,700
Wyoming | 417,319 | 36,900 | 88,400

Limitations on Contributions by Individuals, Non-Multicandidate Committees and Certain Political Party Committees Giving to U.S. Senate Candidates for the 2011-2012 Election Cycle

BCRA amended the Act to extend inflation indexing to: (1) The limitations on contributions made by persons under 2 U.S.C. 441a(a)(1)(A) (contributions to candidates) and 441a(a)(1)(B) (contributions to national party committees); (2) the biennial aggregate contribution limits applicable to individuals under 2 U.S.C. 441a(a)(3); and (3) the limitation on contributions made to U.S. Senate candidates by certain political party committees at 2 U.S.C. 441a(h). See 2 U.S.C. 441a(c). These contribution limits are increased by multiplying the respective statutory contribution amount by 1.23152, the percent difference between the price index, as certified to the Commission by the Secretary of Labor, for the 12 months preceding the beginning of the calendar year and the price index for the base period (calendar year 2001). The resulting amount is rounded to the nearest multiple of $100. See 2 U.S.C. 441a(c); 11 CFR 110.17(b). Contribution limits shall be adjusted accordingly:

Statutory provision | Statutory amount | 2011-2012 Limit
2 U.S.C. 441a(a)(1)(A) | $2,000 | $2,500.
2 U.S.C. 441a(a)(1)(B) | $25,000 | $30,800.
2 U.S.C. 441a(a)(3)(A) | $37,500 | $46,200.
2 U.S.C. 441a(a)(3)(B) | $57,500 (of which no more than $37,500 may be attributable to contributions to political committees that are not political committees of national political parties) | $70,800 (of which no more than $46,200 may be attributable to contributions to political committees that are not political committees of national political parties). The overall biennial limit for 2011-12 is $117,000.
2 U.S.C. 441a(h) | $35,000 | $43,100.

The increased limit at 2 U.S.C. 441a(a)(1)(A) is to be in effect for the two-year period beginning on the first day following the date of the general election in the preceding year and ending on the date of the next regularly scheduled election. Thus, the $2,500 figure above is in effect from November 3, 2010, to November 6, 2012. The limits under 2 U.S.C. 441a(a)(1)(B), 441a(a)(3)(A) and (B), and 441a(h), shall be in effect beginning January 1st of the odd-numbered year and ending on December 31st of the next even-numbered year. Thus the new contribution limits under 2 U.S.C. 441a(a)(1)(B), 441a(a)(3)(A) and (B), and 441a(h) are in effect from January 1, 2011, to December 31, 2012. See 11 CFR 110.17(b)(1).

Lobbyist Bundling Disclosure Threshold for 2011

The Act, as amended by HLOGA, requires certain political committees to disclose contributions bundled by lobbyists/registrants and lobbyist/registrant political action committees once the contributions exceed a specified threshold amount. The Commission must adjust this threshold amount annually to account for inflation. The disclosure threshold is increased by multiplying the $15,000 statutory disclosure threshold by 1.08163, the difference between the price index, as certified to the Commission by the Secretary of Labor, for the 12 months preceding the beginning of the calendar year and the price index for the base period (calendar year 2006). The resulting amount is rounded to the nearest multiple of $100. See 2 U.S.C. 434(i)(3)(A) and (B) and 441a(c)(1)(B); 11 CFR 104.22(g). Based upon this formula ($15,000 × 1.08163), the lobbyist bundling disclosure threshold for calendar year 2011 is $16,200.

Dated: February 9, 2011.
On behalf of the Commission.
Cynthia L. Bauerly,
Chair, Federal Election Commission.

[FR Doc. 2011-3231 Filed 2-11-11; 8:45 am]

BILLING CODE 6715-01-P